DEPARTMENT OF THE TREASURY

Customs Service

19 CFR Part 134

RIN 1515-AC32

Country of Origin Marking

AGENCY: U.S. Customs Service, Department of the Treasury.

ACTION: Notice of proposed rulemaking; reopening of comment period.

SUMMARY: This document provides an additional 30 days for interested members of the public to submit comments on the proposal to restructure and clarify the country of origin marking rules set forth in Part 134 of the Customs Regulations. The proposal was published in the Federal Register on January 26, 2000, and the comment period was scheduled to expire on March 27, 2000.

DATES: Comments on the proposal must be received on or before April 26, 2000.

ADDRESSES: Comments may be submitted to and inspected at the Regulations Branch, Office of Regulations and Rulings, U.S. Customs Service, 1300 Pennsylvania Avenue, N.W., Washington, D.C. 20229. All comments submitted will be available for public inspection in accordance with the Freedom of Information Act (5 U.S.C. 552), § 1.4, Treasury Department Regulations (31 CFR 1.4), and § 103.11(b), Customs Regulations (19 CFR 103.11(b)) between 9:00 a.m. and 4:30 p.m. on normal business days at the Regulations Branch, Office of Regulations and Rulings, U.S. Customs Service, 1300 Pennsylvania Avenue, N.W., 3rd Floor, Washington, D.C.

FOR FURTHER INFORMATION CONTACT: Questions with regard to the following subject areas may be directed to the following staff attorneys of the Special Classification and Marking Branch, (202) 927-2310: Definitions of “country,” “country of origin” and “ultimate purchaser”—Kristen VerSteeg; Marking of containers—Monika Brenner; and Marking and certification requirements for processed and repackaged articles—Burton Schlissel.

SUPPLEMENTARY INFORMATION:

Background

Customs published a document in the Federal Register (65 FR 4193) on January 26, 2000, proposing to restructure and clarify the country of origin marking rules set forth in Part 134 of the Customs Regulations.

The document invited the public to comment on the proposal. Comments on the proposed rule were requested on or before March 27, 2000.

Customs has received a request to extend the comment period for an additional 30 days from the Alliance of Automobile Manufacturers to enable the organization to coordinate its comment with its member companies.

Customs has determined to grant the request for the extension. Accordingly, the period of time for the submission of comments is being extended 30 days. Comments are now due on or before April 26, 2000.

Dated: March 29, 2000.
Stuart P. Seidel,
Assistant Commissioner, Office of Regulations and Rulings.

[FR Doc. 00-8141 Filed 3-31-00; 8:45 am]

BILLING CODE 4820-02-P